DEPARTMENT OF DEFENSE

Office of the Secretary

[Transmittal No. 24-80]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-80, Policy Justification, and Sensitivity of Technology.

Dated: January 8, 2026.
Stephanie J. Bost,
Alternate OSD Federal Register Liaison Officer, Department of Defense.

BILLING CODE 6001-FR-P

BILLING CODE 6001-FR-C

Transmittal No. 24-80

Notice of Proposed Issuance of Letter of Offer Pursuant to Section 36(b)(1) of the Arms Export Control Act, as amended

(i) Prospective Purchaser: Kingdom of Saudi Arabia

(ii) Total Estimated Value:

Major Defense Equipment * | $48.5 million
Other | $30.0 million
TOTAL | $78.5 million

Funding Source: National Funds

(iii) Description and Quantity or Quantities of Articles or Services under Consideration for Purchase:

Major Defense Equipment (MDE):

Twenty (20) MK 54 MOD 0 Lightweight Torpedo (LWT) all up rounds

Non-Major Defense Equipment:

The following non-MDE items will also be included: MK 54 MOD 0 LWT spare parts; MK 54 Recoverable Exercise Torpedoes (REXTORP); handling shapes and containers; training; publications; support and test equipment; United States (U.S.) Government and contractor engineering, technical, and logistics support services; and other related elements of logistics and program support.

(iv) Military Department: Navy (SR-P-ABX)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 3 January 2025

* as defined in Section 47(6) of the Arms Export Control Act.

POLICY JUSTIFICATION

Kingdom of Saudi Arabia—MK 54 MOD 0 Lightweight Torpedoes

The Kingdom of Saudi Arabia has requested to buy twenty (20) MK 54 MOD 0 Lightweight Torpedo (LWT) all up rounds. The following non-MDE items will also be included: MK 54 MOD 0 LWT spare parts; MK 54 Recoverable Exercise Torpedoes (REXTORP); handling shapes and containers; training; publications; support and test equipment; U.S. Government and contractor engineering, technical, and logistics support services; and other related elements of logistics and program support. The estimated total program cost is $78.5 million.

This proposed sale will support the foreign policy goals and national security objectives of the U.S. by improving the security of a partner country that is a force for political stability and economic progress in the Gulf region.

The proposed sale will improve the Kingdom of Saudi Arabia's capability to deter current and future threats by upgrading its anti-submarine warfare capabilities. The Kingdom of Saudi Arabia will have no difficulty absorbing this equipment into its armed forces.

The proposed sale of this equipment and support will not alter the basic military balance in the region.

The principal contractor will be RTX Integrated Defense Systems, located in Portsmouth, RI. There are no known offset agreements proposed in connection with this potential sale.

Implementation of this sale will require travel of up to two U.S. Government or up to two contractor representatives to the Kingdom of Saudi Arabia on a temporary basis for program technical support and management oversight.

There will be no adverse impact on U.S. defense readiness as a result of this proposed sale.

Transmittal No. 24-80

Notice of Proposed Issuance of Letter of Offer Pursuant to Section 36(b)(1) of the Arms Export Control Act

Annex

Item No. vii

(vii) Sensitivity of Technology:

1. The MK 54 MOD 0 Lightweight Torpedo is a conventional torpedo that can be launched from surface ships, rotary, and fixed wing aircraft. It is an upgrade from the MK 46 torpedo and has modernized sonar and guidance and control systems. The new guidance and control system uses a mixture of commercial-off-the-shelf and custom-built electronics. The warhead, fuel tank, and propulsion system from the MK 46 torpedo are re-used in the MK 54 MOD 0 configuration with minor modifications.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Kingdom of Saudi Arabia can provide substantially the same degree of protection for the sensitive technology being released as the U.S. Government. This sale is necessary in furtherance of the U.S. foreign policy and national security objectives outlined in the Policy Justification.

5. All defense articles and services listed in this transmittal have been authorized for release and export to the Kingdom of Saudi Arabia.

[FR Doc. 2026-00438 Filed 1-12-26; 8:45 am]

BILLING CODE 6001-FR-P